DEPARTMENT OF LABOR

Office of the Secretary

Submission for OMB Review: Comment Request

February 10, 2006.

The Department of Labor (DOL) has submitted the following public information collection request (ICR) to the Office of Management and Budget (OMB) for review and approval in accordance with the Paperwork Reduction Act of 1995 (Pub. L. 104-13, 44 U.S.C. chapter 35). A copy of this ICR, with applicable supporting documentation, may be obtained by contacting Darrin King on 202-693-4129 (this is not a toll-free number) or e-mail: king.darrin@dol.gov.

Comments should be sent to Office of Information and Regulatory Affairs, Attn: OMB Desk Officer for the Employee Benefits Security Administration (EBSA), Office of Management and Budget, Room 10235, Washington, DC 20503, 202-395-7316 (this is not a toll-free number), within 30 days from the date of this publication in the Federal Register.

The OMB is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility, and clarity of the information to be collected; and

• Minimize the burden of the collection of information on those who are to respond, including through the use of appropriate automated, electronic, mechanical, or other technological collection techniques or other forms of information technology, e.g., permitting electronic submission of responses.

Agency: Employee Benefits Security Administration.

Type of Review: Extension of currently approved collection.

Title: ERISA Technical Release 91-1.

OMB Number: 1210-0084.

Frequency: On occasion.

Type of Response: Reporting and third party disclosure.

Affected Public: Business or other for-profit; not-for-profit institutions; and individuals or households.

Number of Respondents: 42.

Number of Annual Responses: 135,513.

Estimated Time per Respondent: 1 hour and 52 minutes (includes preparation and distribution of notices).

Total Burden Hours: 4,577.

Total Annualized Capital/Startup Costs: $0.

Total Annual Costs (operating/maintaining systems or purchasing services): $26,539.

Description: Technical Release 91-1 alerts the public to amendments to section 101(e) of ERISA that requires a plan to provide advanced notification to the Secretaries of Labor and the Treasury, as well as participants and beneficiaries, of an intended transfer of excess assets from a defined benefit plan to a retiree health account.

Ira L. Mills,
Departmental Clearance Officer.

[FR Doc. E6-2229 Filed 2-15-06; 8:45 am]

BILLING CODE 4510-29-P